DEPARTMENT OF TRANSPORTATION

NextGen Advisory Committee (NAC); Notice of Public Meeting

AGENCY: Federal Aviation Administration (FAA), Department of Transportation.

ACTION: Notice of public meeting.

SUMMARY: This notice announces a meeting of the NextGen Advisory Committee (NAC).

DATES: The meeting will be held on July 30, 2019, from 9 to 12:30 p.m. EDT.

Requests for accommodations to a disability must be received by July 16, 2019.

Requests to speak during the meeting must submit a written copy of their remarks to FAA by 4:00 p.m. on July 16, 2019.

Requests to submit written materials to be reviewed during the meeting must be received no later than 4:00 p.m. on July 16, 2019.

ADDRESSES: The meeting will be held at The MITRE Corporation, MITRE 1 Building Conference Center: 7525 Colshire Drive, McLean, VA 22102. Copies of the meeting minutes will be available on the NAC internet website at https://www.faa.gov/about/office_org/headquarters_offices/ang/nac/. Any committee related request should be sent to the person listed in the following section.

FOR FURTHER INFORMATION CONTACT: Greg Schwab, NAC Coordinator, U.S. Department of Transportation, at gregory.schwab@faa.gov or 202-267-1201. Also, visit the NAC website at https://www.faa.gov/about/office_org/headquarters_offices/ang/nac/.

SUPPLEMENTARY INFORMATION:

I. Background

The NAC was created under the Federal Advisory Committee Act (FACA), in accordance with the provisions of the FACA as amended, Public Law 92-463, 5 U.S.C. App to provide independent advice and recommendations to the FAA and to respond to specific taskings received directly from the FAA. The NAC recommends consensus-driven standards for FAA consideration relating to Air Traffic Management System modernization.

II. Agenda

At the July 30, 2019, meeting, the agenda will cover the following topics:

• Official Statement of Designated Federal Official

• NAC Chairman's Report

• FAA Report

○ FAA Reauthorization

• NAC Subcommittee Chairman's Report

○ NAC NextGen Priority Focus Area Updates

• Domestic ADS-B Out Equipage Status Update

• Recommendations

• NAC Chairman Closing Comments

A final agenda will be posted on the NAC website at https://www.faa.gov/about/office_org/headquarters_offices/ang/nac/ at least one week in advance of the meeting.

III. Public Participation

The meeting will be open to the public on a first come, first served basis, as space is limited. Members of the public who wish to attend in-person are asked to register via email by submitting your full legal name, country of citizenship, and name of your industry association, or applicable affiliation, to NACRegistration@concept-solutions.com by July 10, 2019. For Foreign National attendees, please also provide your company/organization country.

Individuals requesting accessibility accommodations, such as sign language, interpretation, or other ancillary aids, may do so by contacting the person listed under the heading FOR FURTHER INFORMATION CONTACT by July 10, 2019.

Five (5) minutes total time will be allotted during the meeting for all oral comments from members of the public in attendance. To accommodate as many speakers as possible, the time for each commenter may be limited. Individuals wishing to reserve speaking time during the meeting must submit a request at the time of registration. If the number of registrants requesting to make statements is greater than can be reasonably accommodated during the meeting, the FAA may conduct a lottery to determine the speakers. Speakers are requested to submit a written copy of their prepared remarks for inclusion in the meeting records and for circulation to NAC members. All prepared remarks submitted on time will be considered as part of the record.

Persons who wish to only submit written comments to the NAC may do so. All written comments submitted on time will be reviewed and considered for inclusion as part of the record. Comments received after the due date and time will be distributed to the members but may not be reviewed prior to the meeting.

Copies of the meeting minutes will be available on the NAC website at https://www.faa.gov/about/office_org/headquarters_offices/ang/nac/.

Dated: July 11, 2019.
Tiffany Ottilia McCoy,
General Engineer, NextGen Office of Collaboration and Messaging, ANG-M, Office of the Assistant Administrator for NextGen, Federal Aviation Administration.

[FR Doc. 2019-15041 Filed 7-15-19; 8:45 am]

BILLING CODE 4910-13-P